DEPARTMENT OF COMMERCE

National Oceanic and Atmospheric Administration

RIN 0648-XF392

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that two Exempted Fishing Permit (EFP) applications contain all of the required information and warrant further consideration. These EFPs would allow commercial fishing vessels to land Atlantic halibut under the minimum size limit and in excess of the possession limit for studies by the University of Massachusetts, Dartmouth, School for Marine Science and Technology, and The Nature Conservancy.

Regulations under the Magnuson-Stevens Fishery Conservation and Management Act require publication of this notification to provide interested parties the opportunity to comment on applications for proposed EFPs.

DATES: Comments must be received on or before May 18, 2017.

ADDRESSES: You may submit written comments by any of the following methods:

• Email: NMFS.GAR.EFP@noaa.gov. Include in the subject line “Comments on SMAST and TNC Atlantic halibut EFPs.”

• Mail: John K. Bullard, Regional Administrator, NMFS, Northeast Regional Office, 55 Great Republic Drive, Gloucester, MA 01930. Mark the outside of the envelope “SMAST and TNC Atlantic Halibut EFPs.”

FOR FURTHER INFORMATION CONTACT: Spencer Talmage, Fishery Management Specialist, 978-281-9232, Spencer.Talmage@noaa.gov.

SUPPLEMENTARY INFORMATION: The University of Massachusetts, Dartmouth, School for Marine Science and Technology (SMAST) and the Nature Conservancy submitted complete applications for two EFPs on March 17, 2017, and March 27, 2017, to conduct commercial fishing activities that regulations would otherwise restrict. The EFPs would authorize commercial fishing vessels to land Atlantic halibut in excess of the possession limit and that are smaller than the legal size limit.

The two EFPs would support a project studying Atlantic halibut stock structure, seasonal movement, behavior, and life history being conducted with funding from the Saltonstall-Kennedy Grant Program. The goal of the project is to address identified information gaps to improve future Atlantic halibut stock assessments. The project consists of two components: Tagging, and biological sampling. Project Investigators have requested two EFPs and a scientific Letter of Acknowledgement (LOA) for the project. The LOA was issued on March 31, 2017, for research trips to conduct at-sea tagging during summer 2017.

The SMAST EFP would support the tagging component of the research project. The EFP would allow one vessel to land Atlantic halibut in excess of the possession limit as described in 50 CFR 648.86(c) and below the minimum size limit as described in § 648.83(a)(1). Up to 10 Atlantic halibut would be landed under the tagging component of the project. Once these fish have been landed, no additional Atlantic halibut above the possession limit or below the minimum size limit would be landed. These fish would be held by SMAST to test preliminary tagging techniques prior to field tagging that will be conducted under the LOA this summer. Fish would be caught during regular fishing operations by the exempted vessel. This testing is necessary to ensure that tagging conducted in the course of the main project is effective. The exemption from the minimum size limit is necessary to ensure testing is completed on all size ranges of halibut expected to be tagged during the course of the main project.

Fishing under the SMAST tagging EFP would occur from April 2017 through July 2017. On average, the fishing vessel would conduct three to five tows per day on seven day trips, with each tow lasting three to five hours. Fishing would occur east of Cape Cod, only in statistical area 521. While fishing under the tagging EFP, the vessel would be using a groundfish otter trawl with a 7-inch (17.8 cm) mesh codend.

For biological sampling component, TNC requested exemptions from the Atlantic halibut possession limit as described in § 648.86(c) and the Atlantic halibut minimum size limit as described in § 648.83(a)(1). The EFP would be issued to 21 commercial fishing vessels, and fish would be caught during regular fishing operations by the exempted vessels. A maximum of two halibut may be biologically sampled per trip. Atlantic halibut under the minimum size limit may be landed and transferred to SMAST researchers. Fish above the minimum size limit would be sampled at sea and landed for commercial sale. A total of 250 halibut would be sampled under this EFP, and approximately 165 fish would be under the minimum size limit. Sampling would include recording of fish length and weight, as well as removal of gonads, otoliths, and genetic material. The exemption from the minimum size limit would allow for researchers to acquire data from all sizes of halibut, which is necessary to ensure that results of the project are accurate and reflective of the halibut population. The exemption from the possession limit is necessary to ensure that the researchers are able to obtain sufficient biological samples to conduct their research. No halibut above the possession limit or below the minimum size limit could be landed for sale.

Fishing under the biological sampling EFP would occur during the 2017 fishing years, from May 1, 2017 through April 30, 2018. Multiple gear types, including handline/jig, longline, sink gillnet,and otter trawl would be used by vessels fishing under the EFP. Fishing under the biological sampling EFP would occur throughout both the Gulf of Maine and the Georges Bank Regulated Mesh Areas. Statistical areas 514, 521, 522, 525, and 526 would be most commonly fished by vessels participating in the biological sampling EFP.

If approved, the applicants may request minor modifications and extensions to the EFPs throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 27, 2017.
Karen H. Abrams,
Acting Deputy Director, Office of Sustainable Fisheries, National Marine Fisheries Service.

[FR Doc. 2017-08906 Filed 5-2-17; 8:45 am]

BILLING CODE 3510-22-P